FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

TTR Multimodal Freight Forwarder, LLC dba TTR Multimodal, 8336 NW. 68th Street, Miami, FL 33166. Officers: Leon B. Zilbersztajen (Qualifying Individual), Antonio Cesar P. DeMiranda.

Miriam Family Cargo Inc., 18 NW., 12th Ave., Miami, FL 33128. Officer:Miriam Bennett, President (Qualifying Individual).

Sterling Logistics Group, LLC, 18 Augusta Pines Drive, Ste. 283-W, Spring, TX 77389. Officer: George J. Tobey, Vice President (Qualifying Individual).

Infinity Moving & Storage Inc., 175 Walnut Ave., Bronx, NY 10454. Officers: Janis Benhaim, Secretary (Qualifying Individual), Guy Lavi, President.

Speedy International, LLC, 451 Victory Ave., South San Francisco, CA 94080. Officer: Michael Chan, Manager (Qualifying Individual).

Unico Logistics USA, Inc., 10711 Walker Street, Ste. B, Cypress, CA 90630. Officer: Young C. Jang, CFO (Qualifying Individual).

Premier Projects International, LLC, 521 N. Sam Houston Pkwy, Ste. 555, Houston, TX 77060. Officers: Ricardo A. Flores, Vice President (Qualifying Individual), Nestor Bernabe, President.

Go Global Logistics, LLC, 8 New Street, Boston, MA 02128. Officers: Aleksei Svetozarev, Vice President (Qualifying Individual), George T. Mylonakis,Owner.

ASG Corporation dba RJL Logistics, AS Lito Road, Koblerville Village, CK Saipan, MP 96950. Officers: Wilfredo A. Echavez, Vice President (Qualifying Individual), Floresto S. Segismundo, President.

Autico International, LLC, 1139 East Jersey Street, Elizabeth, NJ 07201. Officers: Konstantin Efremidi, Manager (Qualifying Individual), Nikolay Voutchkov, Partner.

Non-Vessel Operating Common Carrier and Ocean Freight Forwarder Transportation Intermediary Applicants

Continental Freight Forwarding, Inc., 5900 NW., 97th Avenue, #6, Doral, FL 33178. Officer: Joseph A. Ciero, President (Qualifying Individual).

S. Cubed Pacorini Logistics, LLC, 5240 Coffee Drive, New Orleans, LA 70115. Officer: Jeanne Shows-Andre, Managing Member (Qualifying Individual).

Shiprotectors, Inc., 6399 Wilshire Blvd., Ste. #315, Los Angeles, CA 90048. Officer: Kevin J. Gregory, President (Qualifying Individual).

Demar International Cargo, Corp., 8075 NW., 68th Street, Miami, FL 33166. Officers: Rafael A. Marmolejos, President (Qualifying Individual), Norma Marmolejos, Vice President.

South America Overseas Corp., 1574 NW., 82nd Ave., Miami, FL 33126. Officer: Jose R. Gantus, President (Qualifying Individual).

Heron International, Inc., 6961 Highway 225, Deer Park, TX 77536. Officer: David Garza, President (Qualifying Individual).

NJS Warehousing & Distribution Services LLC dba Venture Logistics, 10850 NW., 21st Street, Miami, FL 33172. Officer: Javier J. Salazar, Manager (Qualifying Individual).

DTI Group Inc. 10913 NW., 30th Street, Miami, FL 33172. Officer: Sebastian A. Detullio, President (Qualifying Individual).

Real Logistics Forwarders Inc., 9905 NW., 116th Way, Medley, FL 33178-1113. Officer: Elizabeth Alexander, Chairman (Qualifying Individual).

Schneider Logistics International, Inc. dba Schneider Logistics, 22351 S. Wilmington Ave., Carson, CA 90745. Officer: Theresa A. Fulton, Asst. Secretary (Qualifying Individual).

Ocean Freight Forwarder—Ocean Transportation Intermediary Applicants

Harris International Freight Forwarders, Inc., 2033 Second Ave., Ste. 1510, Seattle, WA 98121. Officer: Michael W. Harris, President (Qualifying Individual).

Delphi Logistics Corp. dba Delphi Logistics, 2023 NW., 84th Ave., Ste. 205, Miami, FL 33122. Officers: Piedad D. Castrillon, Vice President (Qualifying Individual), Alonso Silva, President.

Dated: April 3, 2009.
Karen V. Gregory,
Secretary.

[FR Doc. E9-7953 Filed 4-7-09; 8:45 am]

BILLING CODE 6730-01-P